DEPARTMENT OF HOMELAND SECURITY

Federal Emergency Management Agency

[Docket ID FEMA-2023-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of May 9, 2023 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Federal Emergency Management Agency, Department of Homeland Security.

Community | Community map repository address
San Juan County, Colorado and Incorporated Areas
Docket No. FEMA-B-2187
Town of Silverton | Town Hall, 1360 Greene Street, Silverton, CO 81433.
Unincorporated Areas of San Juan County | San Juan County Courthouse, 1557 Greene Street, Silverton, CO 81433.
Cache County, Utah and Incorporated Areas
Docket No. FEMA-B-2187
City of Hyde Park | City Office, 113 East Center Street, Hyde Park, UT 84318.
City of Hyrum City | City Office, 60 West Main Street, Hyrum City, UT 84319.
City of Logan | Public Works, 290 North 100 West, Logan, UT 84321.
City of Mendon | City Office, 15 North Main Street, Mendon, UT 84325.
City of Millville | City Office, 510 East 300 South, Millville, UT 84326.
City of Nibley | City Office, 455 West 3200 South, Nibley, UT 84321.
City of Providence | City Hall, 164 North Gateway Drive, Providence, UT 84332.
City of Richmond | City Office, 90 South 100 West, Richmond, UT 84333.
City of River Heights | City Office, 520 South 500 East, River Heights, UT 84321.
City of Smithfield | City Office, 96 South Main Street, Smithfield, UT 84335.
City of Wellsville | City Office, 75 East Main Street, Wellsville, UT 84339.
Town of Clarkston | Town Hall, 50 South Main Street, Clarkston, UT 84305.
Town of Paradise | Town Hall, 9035 South 100 West, Paradise, UT 84328.
Unincorporated Areas of Cache County | Cache County Public Works Department, 179 North Main Street, Suite 305, Logan, UT 84321.

[FR Doc. 2023-01889 Filed 1-30-23; 8:45 am]

BILLING CODE 9110-12-P